DEPARTMENT OF ENERGY

Federal Energy Regulatory Commission

[Docket No. EG01-230-000, et al.]

Metro Energy, L.L.C., et al.; Electric Rate and Corporate Regulation Filings

July 23, 2001.

Take notice that the following filings have been made with the Commission:

1. Metro Energy, L.L.C.

[Docket No. EG01-230-000]

Take notice that on July 19, 2001, Metro Energy, L.L.C., a Michigan limited liability company with its principal place of business at 425 South Main Street, Suite 201, Ann Arbor, Michigan 48107, tendered for filing with the Federal Energy Regulatory Commission (Commission) an amendment to its application for determination of exempt wholesale generator status pursuant to Section 365 of the Commission's regulations.

Metro Energy is developing a 17 MW electric generating facility located in Wayne County Michigan. The purpose of the amendment is to explain Metro Energy's intention to engage in certain activities, including the sale of certain thermal energy products, which the Commission has found are incidental to an EWG's ownership and operation of an eligible facility and the sale of electric energy at wholesale.

Comment date: August 8, 2001, in accordance with Standard Paragraph E at the end of this notice. The Commission will limit its consideration of comments to those that concern the adequacy or accuracy of the application.

2. Florida Power Corporation

[Docket No. ER01-2621-000]

Take notice that Florida Power Corporation (FPC), on July 18, 2001, tendered for filing a revised Cost-Based Wholesale Power Sales Tariff (CR-1) FERC Electric Tariff, First Revised Volume No. 9 (Revised Tariff). The revision deletes an attachment containing outdated rates for transmission service and ancillary services and makes several non-substantive changes. FPC requests that the Commission waive its notice of filing requirements to allow the Revised Tariff to become effective as of July 18, 2001.

Copies of the filing were served upon the public utility's jurisdictional customers, and the Florida Public Service Commission.

Comment date: August 8, 2001, in accordance with Standard Paragraph E at the end of this notice.

3. American Transmission Company LLC

[Docket No. ER01-2617-000]

Take notice that on July 18, 2001, American Transmission Company LLC (ATCLLC) tendered for filing a Firm and Non-Firm Point-to-Point Service Agreement between ATCLLC and Ameren Energy Marketing Company ATCLLC requests an effective date of July 11, 2001.

Comment date: August 8, 2001, in accordance with Standard Paragraph E at the end of this notice.

4. California Independent System Operator Corporation

[Docket No. ER01-2612-000]

Take notice that the California Independent System Operator Corporation, (ISO) on July 18, 2001, tendered for filing a Meter Service Agreement for ISO Metered Entities between the ISO and Bay Environmental Management for acceptance by the Commission. The ISO states that this filing has been served on Bay Environmental Management and the California Public Utilities Commission.

The ISO is requesting waiver of the 60-day notice requirement to allow the Meter Service Agreement for ISO Metered Entities to be made effective July 2, 2001.

Comment date: August 8, 2001, in accordance with Standard Paragraph E at the end of this notice.

5. California Independent System Operator Corporation

[Docket No. ER01-2618-000]

Take notice that the California Independent System Operator Corporation, (ISO) on July 18, 2001, tendered for filing a Participating Generator Agreement between the ISO and California Portland Cement Company for acceptance by the Commission.

The ISO states that this filing has been served on California Portland Cement Company and the California Public Utilities Commission.

The ISO is requesting waiver of the 60-day notice requirement to allow the Participating Generator Agreement to be made effective July 11, 2001.

Comment date: August 8, 2001, in accordance with Standard Paragraph E at the end of this notice.

6. California Independent System Operator Corporation

[Docket No. ER01-2619-000]

Take notice that the California Independent System Operator Corporation, (ISO) on July 18, 2001, tendered for filing a Meter Service Agreement for ISO Metered Entities between the ISO and California Portland Cement Company for acceptance by the Commission.

The ISO states that this filing has been served on California Portland Cement Company and the California Public Utilities Commission.

The ISO is requesting waiver of the 60-day notice requirement to allow the Meter Service Agreement for ISO Metered Entities to be made effective July 11, 2001.

Comment date: August 8, 2001, in accordance with Standard Paragraph E at the end of this notice.

7. Florida Power & Light Company

[Docket No. ER01-2622-000]

Take notice that on July 18, 2001, Florida Power & Light Company (FPL) filed, pursuant to Section 205 of the Federal Power Act, an executed Construction and Connection Agreement between FPL and Oleander Power Project, L.P.

Comment date: August 8, 2001, in accordance with Standard Paragraph E at the end of this notice.

8. Exelon Generation Company, LLC

[Docket No. ER01-2624-000]

Take notice that on July 18, 2001, Exelon Generation Company, LLC (Exelon Generation) submitted for filing with the Federal Energy Regulatory Commission (FERC or the Commission) a service agreement for wholesale power sales transactions between Exelon Generation and Alliant Energy Corporate Services, Inc. under Exelon Generation's wholesale power sales tariff, FERC Electric Tariff, Original Volume No. 1.

Exelon Generation requests that the Service Agreement be accepted for filing effective as of April 1, 2001.

Comment date: August 8, 2001, in accordance with Standard Paragraph E at the end of this notice.

9. California Independent System Operator

[Docket No. ER01-2625-000]

Take notice that the California Independent System Operator Corporation, (ISO) on July 18, 2001, tendered for filing a Participating Generator Agreement between the ISO and Bay Environmental Management for acceptance by the Commission. The ISO states that this filing has been served on Bay Environmental Management and the California Public Utilities Commission.

The ISO is requesting waiver of the 60-day notice requirement to allow the Participating Generator Agreement to be made effective July 2, 2001.

Comment date: August 8, 2001, in accordance with Standard Paragraph E at the end of this notice.

10. Southern Company Services, Inc.

[Docket No.ER01-2626-000]

Take notice that on July 18, 2001, Southern Company Services, Inc. (SCS), acting on behalf of Alabama Power Company (APC), filed an amendment (the Amendment) to the Interconnection Agreement Between Mobile Energy Services Company, L.L.C. and APC (the Agreement) (Service Agreement No. 254 under Southern Operating Companies' FERC Electric Tariff, Fourth Revised Volume No. 5). Pursuant to the Amendment, the term of the Agreement will be extended until September 18, 2001.

Comment date: August 8, 2001, in accordance with Standard Paragraph E at the end of this notice.

11. Southern California Edison Company

[Docket No. ER01-2627-000]

Take notice that on July 19, 2001, Southern California Edison Company (SCE) tendered for filing the Amended and Restated Radial Lines Agreement (Amended Agreement) between SCE and Reliant Energy Coolwater L.L.C. (Reliant). The Amended Agreement serves to provide the terms and conditions under which SCE shall operate and maintain the Radial Lines, and to reflect certain capital additions to such Radial Line facilities.

Copies of this filing were served upon the Public Utilities Commission of the State of California and Reliant.

Comment date: August 9, 2001, in accordance with Standard Paragraph E at the end of this notice.

12. Commonwealth Edison Company

[Docket No. ER01-2628-000]

Take notice that on July 19, 2001, Commonwealth Edison Company (ComEd) submitted for filing an Interconnection Agreement with Duke Energy Cook, LLC (Duke). Copies of the filing were served on Duke and the Illinois Commerce Commission.

ComEd requests an effective date of July 20, 2001 and accordingly seeks waiver of the Commission's notice requirements.

Comment date: August 9, 2001, in accordance with Standard Paragraph E at the end of this notice.

13. Commonwealth Edison Company

[Docket No. ER01-2629-000]

Take notice that on July 19, 2001, Commonwealth Edison Company (ComEd) submitted for filing an Interconnection Agreement with Ameren Energy Development Company (Ameren). Copies of the filing were served on Ameren and the Illinois Commerce Commission.

ComEd requests an effective date of July 20, 2001 and accordingly seeks waiver of the Commission's notice requirements.

Comment date: August 9, 2001, in accordance with Standard Paragraph E at the end of this notice.

14. Xcel Energy Services Inc.

[Docket No.ER01-2630-000]

Take notice that on July 19, 2001, Xcel Energy Services Inc. (XES), on behalf of Public Service Company of Colorado (Public Service), submitted for filing a Non-Firm Point-to-Point Transmission Service Agreement between Public Service and Tri-State Transmission & Generation, Inc d.b.a. Tri-State Power Marketing under Xcel's Joint Open Access Transmission Service Tariff (Xcel FERC Electric Tariff, Original Volume No. 1). XES requests that this agreement, designated as Original Service Agreement No. 109-PSCo, become effective July 2, 2001.

Comment date: August 9, 2001, in accordance with Standard Paragraph E at the end of this notice.

15. Xcel Energy Services Inc.

[Docket No. ER01-2631-000]

Take notice that on July 19, 2001, Xcel Energy Services Inc. (XES), on behalf of Public Service Company of Colorado (Public Service), submitted for filing a Short-Term Firm Point-to-Point Transmission Service Agreement between Public Service and Tri-State Transmission & Generation, Inc d.b.a. Tri-State Power Marketing under Xcel's Joint Open Access Transmission Service Tariff (Xcel FERC Electric Tariff, Original Volume No. 1). XES requests that this agreement, designated as Original Service Agreement No. 108-PSCo, become effective July 2, 2001.

Comment date: August 9, 2001, in accordance with Standard Paragraph E at the end of this notice.

16. Mirant Americas Energy Marketing, L.P., Potomac Electric Power Company

[Docket No. ER01-2634-000]

Take notice that on July 19, 2001, pursuant to Section 205 of the Federal Power Act and Part 35 of the Federal Energy Regulatory Commission's (Commission) regulations, Potomac Electric Power Company (Pepco) submitted for filing on behalf of Mirant Americas Energy Marketing, L.P. formerly known as Southern Company Energy Marketing, L.P. (Mirant Marketer) the following Transition Power Agreements (TPAs) as each is modified by Amendment No. 1, as service agreements under the Mirant Marketer's market -based rate tariff: Transition Power Agreement (District of Columbia) between Pepco and the Mirant Marketer dated December 19, 2000, as modified by Amendment No. 1; and Transition Power Agreement (Maryland) between Pepco and the Mirant Marketer dated December 19, 2000, as modified by Amendment No. 1.

Comment date: August 9, 2001, in accordance with Standard Paragraph E at the end of this notice.

17. SCANA Energy Marketing, Inc. and South Carolina Electric & Gas Company

[Docket No. ER01-2635-000]

Take notice that on July 19, 2001, Scana Energy Marketing, Inc. (SEMI) and South Carolina Electric & Gas Company (SCE&G), affiliates, filed a notice of termination of SEMI's market-based rate tariff (Tariff) and the associated code of conduct, both of which were made effective in these dockets by earlier Commission orders. SEMI states that it has not made any wholesale purchases or sales for its own account under the Tariff since the fourth quarter of 1998, that it has no current sales obligations, and that it does not plan to resume wholesale marketing in the future. Therefore, SEMI states that it has no need to maintain the effectiveness of the Tariff or the associated code of conduct.

Comment date: August 9, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18853 Filed 7-27-01; 8:45 am]

BILLING CODE 6717-01-P